SMALL BUSINESS ADMINISTRATION

[Declaration of Disaster #3473]

State of Alaska (Amendment #2)

In accordance with information received from the Federal Emergency Management Agency dated December 20, 2002, the above-numbered declaration is hereby amended to establish the incident period as beginning on October 23, 2002 and continuing through December 20, 2002.

All other information remains the same, i.e., the deadline for filing applications for physical damage is February 3, 2003, and for economic injury the deadline is September 4, 2003.

(Catalog of Federal Domestic Assistance Program Nos. 59002 and 59008.)
Dated: December 31, 2002.
S. George Camp,
Acting Associate Administrator for Disaster Assistance.

[FR Doc. 03-508 Filed 1-9-03; 8:45 am]

BILLING CODE 8025-01-P